DEPARTMENT OF ENERGY

Federal Energy Regulatory Commission

[Project No. 1981-010-Wisconsin]

Oconto Electric Cooperative; Notice of Availability of Final Environmental Assessment

September 9, 2002.

In accordance with the National Environmental Policy Act of 1969, as amended, and the Federal Energy Regulatory Commission's (Commission) regulations, 18 CFR Part 380 (Order No. 486, 52 FR 47897), the Commission staff has reviewed the application for a subsequent license for the existing Stiles Hydroelectric Project, located on the Oconto River, in the township of Stiles, Oconto County, Wisconsin, and has prepared a final Environmental Assessment (EA) for the project. No Federal lands are occupied by the project.

On November 8, 2000, the Commission staff issued a draft EA for the Stiles Hydroelectric Project and requested that any comments be filed within 45 days. Comments were filed by various entities and are addressed in the final EA.

The final EA contains the Commission staff's analysis of the potential environmental effects of the proposed project, the proposed project with staff-recommended measures, and no-action, and concludes that licensing the project, with appropriate environmental measures, would not constitute a major Federal action significantly affecting the quality of the human environment.

The final EA is available for review at the Commission in the Public Reference Room or may be viewed on the Commission's website at http://www.ferc.gov using the “FERRIS” link. Enter the docket number excluding the last three digits in the docket number field to access the document. For Assistance, call (202)502-8222 or for TTY, (202) 208-1659.

For further information, contact Patti Leppert at (202) 502-6034.

Magalie R. Salas,
Secretary.

[FR Doc. 02-23440 Filed 9-13-02; 8:45 am]

BILLING CODE 6717-01-P